DEPARTMENT OF COMMERCE

International Trade Administration

[A-475-839, A-570-067]

Forged Steel Fittings From Italy and the People's Republic of China: Antidumping Duty Orders

AGENCY: Enforcement and Compliance, International Trade Administration, Department of Commerce.

SUMMARY: Based on affirmative final determinations by the Department of Commerce (Commerce) and the International Trade Commission (ITC), Commerce is issuing antidumping duty orders on forged steel fittings from Italy and the People's Republic of China (China).

DATES: Applicable November 26, 2018.

FOR FURTHER INFORMATION CONTACT: Michael Bowen at (202) 482-0768 (Italy) or Kate Johnson at (202) 482-4929 (China), AD/CVD Operations, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on October 5, 2018, Commerce published its final determinations in the less-than-fair-value (LTFV) investigations of forged steel fittings from Italy and China.¹ On November 19, 2018, the ITC notified Commerce of its final determinations, pursuant to section 735(d) of the Act, that an industry in the United States is materially injured within the meaning of section 735(b)(1)(A)(i) of the Act by reason of LTFV imports of forged steel fittings from Italy and China.²

¹ See Forged Steel Fittings from Italy: Final Determination of Sales at Less Than Fair Value, 83 FR 50345 (October 5, 2018); and Forged Steel Fittings from the People's Republic of China: Final Determination of Sales at Less Than Fair Value, 83 FR 50339 (October 5, 2018).

² See ITC Notification Letter to the Deputy Assistant Secretary for Enforcement and Compliance, referencing ITC Investigation Nos. 701-TA-589 and 731-TA-1394-95, dated November 19, 2018 (ITC Notification).

Scope of the Orders ³

³ See Memorandum, “Placing Carbon Steel Butt Weld Pipe Fitting Scope Ruling on the Record,” dated September 19, 2018.

The products covered by these orders are forged steel fittings from Italy and China. For a complete description of the scope of these orders, see the Appendix to this notice.

Antidumping Duty Orders

On November 19, 2018, in accordance with section 735(d) of the Act, the ITC notified Commerce of its final determinations in these investigations, in which it found that an industry in the United States is materially injured by reason of imports of forged steel fittings from Italy and China.⁴ Therefore, in accordance with section 735(c)(2) of the Act, Commerce is issuing these antidumping duty orders. Because the ITC determined that imports of forged steel fittings from Italy and China are materially injuring a U.S. industry, unliquidated entries of such merchandise from Italy and China, entered or withdrawn from warehouse for consumption, are subject to the assessment of antidumping duties.

⁴ See ITC Notification; see also Forged Steel Fittings from China and Italy (Inv. Nos. 701-TA-589 and 731-TA-1394-1395 (Final), USITC Publication 4850, November 2018).

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of forged steel fittings from Italy and China. With the exception of entries occurring after the expiration of the provisional measures period and before publication of the ITC's final affirmative injury determinations, as further described below, antidumping duties will be assessed on unliquidated entries of forged steel fittings from Italy and China entered, or withdrawn from warehouse, for consumption on or after May 17, 2018, the date of publication of the preliminary determinations.⁵

⁵ See Forged Steel Fittings from Italy: Preliminary Affirmative Determination of Sales at Less Than Fair Value, Postponement of Final Determination and Extension of Provisional Measures, 83 FR 22954 (May 17, 2018) (Italy Preliminary Determination); and Forged Steel Fittings from the People's Republic of China: Affirmative Preliminary Determination of Sales at Less Than Fair Value, Postponement of Final Determination and Extension of Provisional Measures, 83 FR 22948 (May 17, 2018) (China Preliminary Determination).

Continuation of Suspension of Liquidation

In accordance with section 735(c)(1)(B) of the Act, Commerce will instruct CBP to continue to suspend liquidation on all relevant entries of forged steel fittings from Italy and China. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the estimated weighted-average dumping margins listed in the tables below.⁶ For forged steel fittings from Italy, the all-others rate applies to all producers or exporters not specifically listed. For forged steel fittings from China, the China-wide entity rate applies to all Chinese exporter-producer combinations not specifically listed.

⁶ See section 736(a)(3) of the Act.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of forged steel fittings from Italy and China, Commerce extended the four-month period to six months in each of these investigations. Commerce published the preliminary determinations in these investigations on May 17, 2018.⁷ The extended provisional measures period, beginning on the date of publication of the preliminary determinations, ended on November 12, 2018. Therefore, in accordance with section 733(d) of the Act and our practice,⁸ Commerce will instruct CBP to terminate the suspension of liquidation and to liquidate, without regard to antidumping duties, unliquidated entries of forged steel fittings from Italy and China entered, or withdrawn from warehouse, for consumption after November 12, 2018, the final day on which the provisional measures were in effect, until and through the day preceding the date of publication of the ITC's final affirmative injury determinations in the Federal Register. Suspension of liquidation and the collection of cash deposits will resume on the date of publication of the ITC's final determinations in the Federal Register.

⁷ See Italy Preliminary Determination and China Preliminary Determination.

⁸ See Certain Corrosion-Resistant Steel Products from India, Italy, the People's Republic of China, the Republic of Korea and Taiwan: Amended Final Affirmative Antidumping Determination for India and Taiwan, and Antidumping Duty Orders, 81 FR 48390, 48392 (July 25, 2016).

Estimated Weighted-Average Dumping Margins

The estimated weighted-average antidumping duty margin percentages are as follows:

Italy

Exporter/producer | Estimated weighted- average dumping margin (percent)
M.E.G.A. S.p.A | 80.20
I.M.L. Industria Meccanica Ligure S.p.A | 80.20
All-Others | 49.43

China

Exporter | Producer | Estimated weighted- average dumping margin (percent)
Both-Well (Taizhou) Steel Fittings Co., Ltd | Both-Well (Taizhou) Steel Fittings Co., Ltd | 8.00
Dalian Guangming Pipe Fittings Co., Ltd | Yancheng Jiuwei Pipe Fittings Co., Ltd | 8.00
Dalian Guangming Pipe Fittings Co., Ltd | Yancheng Manda Pipe Industry Co., Ltd | 8.00
Dalian Guangming Pipe Fittings Co., Ltd | Yancheng Haohui Pipe Fittings Co., Ltd | 8.00
Dalian Guangming Pipe Fittings Co., Ltd | Jiangsu Haida Pipe Fittings Group Co., Ltd | 8.00
Eaton Hydraulics (Ningbo) Co., Ltd | Eaton Hydraulics (Ningbo) Co., Ltd | 8.00
Eaton Hydraulics (Luzhou) Co., Ltd | Eaton Hydraulics (Luzhou) Co., Ltd | 8.00
Eaton Hydraulics (Luzhou) Co., Ltd | Luzhou City Chengrun Mechanics Co., Ltd | 8.00
Eaton Hydraulics (Luzhou) Co., Ltd | Eaton Hydraulics (Ningbo) Co., Ltd | 8.00
Jiangsu Forged Pipe Fittings Co., Ltd | Jiangsu Forged Pipe Fittings Co., Ltd | 8.00
Jinan Mech Piping Technology Co., Ltd | Jinan Mech Piping Technology Co., Ltd | 8.00
Jining Dingguan Precision Parts Manufacturing Co., Ltd | Jining Dingguan Precision Parts Manufacturing Co., Ltd | 8.00
Lianfa Stainless Steel Pipes & Valves (Qingyun) Co., Ltd | Lianfa Stainless Steel Pipes & Valves (Qingyun) Co., Ltd | 8.00
Ningbo Long Teng Metal Manufacturing Co., Ltd | Ningbo Long Teng Metal Manufacturing Co., Ltd | 8.00
Ningbo Save Technology Co., Ltd | Ningbo Save Technology Co., Ltd | 8.00
Q.C. Witness International Co., Ltd | Ningbo HongTe Industrial Co., Ltd | 8.00
Q.C. Witness International Co., Ltd | Cixi Baicheng Hardware Tools, Ltd | 8.00
Qingdao Bestflow Industrial Co., Ltd | Yancheng Boyue Tube Co., Ltd | 8.00
Xin Yi International Trade Co., Limited | Yancheng Jiuwei Pipe Fittings Co., Ltd | 8.00
Xin Yi International Trade Co., Limited | Yancheng Manda Pipe Industry Co., Ltd | 8.00
Xin Yi International Trade Co., Limited | Yancheng Haohui Pipe Fittings Co., Ltd | 8.00
Xin Yi International Trade Co., Limited | Jiangsu Haida Pipe Fittings Group Co., Ltd | 8.00
Xin Yi International Trade Co., Limited | Yingkou Guangming Pipeline Industry Co., Ltd | 8.00
Xin Yi International Trade Co., Limited | Shanghai Lon Au Stainless Steel Materials Co., Ltd | 8.00
Yingkou Guangming Pipeline Industry Co., Ltd | Yingkou Guangming Pipeline Industry Co., Ltd | 8.00
Yingkou Guangming Pipeline Industry Co., Ltd | Yancheng Jiuwei Pipe Fittings Co., Ltd | 8.00
Yingkou Guangming Pipeline Industry Co., Ltd | Yancheng Manda Pipe Industry Co., Ltd | 8.00
Yingkou Guangming Pipeline Industry Co., Ltd | Yancheng Haohui Pipe Fittings Co., Ltd | 8.00
Yingkou Guangming Pipeline Industry Co., Ltd | Jiangsu Haida Pipe Fittings Group Co., Ltd | 8.00
Yuyao Wanlei Pipe Fitting Manufacturing Co., Ltd | Yuyao Wanlei Pipe Fitting Manufacturing Co., Ltd | 8.00
China-Wide Entity ⁹ |  | 142.72

This notice constitutes the antidumping duty orders with respect to forged steel fittings from Italy and China, pursuant to section 736(a) of the Act. Interested parties can find a list of antidumping duty orders currently in effect at http://enforcement.trade.gov/stats/iastatsl.html.

⁹ The China-wide entity includes: (1) Beijing Better Products International Ltd.; (2) Dalian Newshow Pipeline Industry Co.; (3) G&T Industry Holding Ltd.; (4) Shanxi Baolongda Forging Company Ltd.; (5) Shaanxi Fenry Flanges and Fittings Co., Ltd.; (6) Shenzhen Front Valve Co., Ltd.; (7) Qingdao Eathu Casting and Forging Co., Ltd.; (8) Gaoyou Huaxing Petroleum Pipe Manufacture Co., Ltd.; and (9) the single entity comprising Jiangsu Haida Pipe Fittings Group Company Ltd., its affiliated producer Haida Pipe Co., Ltd., and its affiliated reseller Yancheng L&W International Co., Ltd.

These orders are published in accordance with section 736(a) of the Act and 19 CFR 351.211(b).

Dated: November 20, 2018.
Gary Taverman,
Deputy Assistant Secretary for Antidumping and Countervailing Duty Operations, performing the non-exclusive functions and duties of the Assistant Secretary for Enforcement and Compliance.

Appendix

Scope of the Orders

The merchandise covered by these orders is carbon and alloy forged steel fittings, whether unfinished (commonly known as blanks or rough forgings) or finished. Such fittings are made in a variety of shapes including, but not limited to, elbows, tees, crosses, laterals, couplings, reducers, caps, plugs, bushings, unions, and outlets. Forged steel fittings are covered regardless of end finish, whether threaded, socket-weld or other end connections.

While these fittings are generally manufactured to specifications ASME B16.11, MSS SP- 79, MSS SP-83, MSS SP-97, ASTM A105, ASTM A350 and ASTM A182, the scope is not limited to fittings made to these specifications.

The term forged is an industry term used to describe a class of products included in applicable standards, and does not reference an exclusive manufacturing process. Forged steel fittings are not manufactured from casting. Pursuant to the applicable specifications, subject fittings may also be machined from bar stock or machined from seamless pipe and tube.

All types of fittings are included in the scope regardless of nominal pipe size (which may or may not be expressed in inches of nominal pipe size), pressure rating (usually, but not necessarily expressed in pounds of pressure/PSI, e.g., 2,000 or 2M; 3,000 or 3M; 6,000 or 6M; 9,000 or 9M), wall thickness, and whether or not heat treated.

Excluded from this scope are all fittings entirely made of stainless steel. Also excluded are flanges, butt weld fittings, butt weld outlets, nipples, and all fittings that have a maximum pressure rating of 300 pounds of pressure/PSI or less.

Also excluded are fittings certified or made to the following standards, so long as the fittings are not also manufactured to the specifications of ASME B16.11, MSS SP-79, MSS SP-83, MSS SP-97, ASTM A105, ASTM A350 and ASTM A182:

• American Petroleum Institute (API) 5CT, API 5L, or API 11B

• Society of Automotive Engineering (SAE) J476, SAE J514, SAE J516, SAE J517, SAE J518, SAE J1026, SAE J1231, SAE J1453, SAE J1926, J2044 or SAE AS 35411

• Underwriter's Laboratories (UL) certified electrical conduit fittings

• ASTM A153, A536, A576, or A865

• Casing Conductor Connectors 16-42 inches in diameter made to proprietary specifications

• Military Specification (MIL) MIL-C-4109F and MIL-F-3541

• International Organization for Standardization (ISO) ISO6150-B

To be excluded from the scope, products must have the appropriate standard or pressure markings and/or be accompanied by documentation showing product compliance to the applicable standard or pressure, e.g., “API 5CT” mark and/or a mill certification report.

Subject carbon and alloy forged steel fittings are normally entered under Harmonized Tariff Schedule of the United States (HTSUS) 7307.99.1000, 7307.99.3000, 7307.99.5045, and 7307.99.5060. They also may be entered under HTSUS 7307.92.3010, 7307.92.3030, 7307.92.9000, and 7326.19.0010. The HTSUS subheadings and specifications are provided for convenience and customs purposes; the written description of the scope is dispositive.

[FR Doc. 2018-25703 Filed 11-23-18; 8:45 am]

BILLING CODE 3510-DS-P